ENVIRONMENTAL PROTECTION AGENCY

40 CFR Parts 52 and 81

[NV 021-0049b; FRL-7167-4]

Approval and Promulgation of Implementation Plans and Designation of Areas for Air Quality Planning Purposes; Nevada

AGENCY: Environmental Protection Agency (EPA).

ACTION: Proposed rule.

SUMMARY: EPA is proposing to approve the maintenance plan for the Steptoe Valley Central area in Nevada and grant the request submitted by the State to redesignate this area from nonattainment to attainment for the National Ambient Air Quality Standards for sulfur dioxide (SO2).

DATES: Comments on this proposal must be received by May 13, 2002.

ADDRESSES: Please address your comments to the following EPA contact. You may inspect and copy the rulemaking docket for this notice at the following location during normal business hours.

Environmental Protection Agency, Region 9, Air Division, Air Planning Office (AIR-2), 75 Hawthorne Street, San Francisco, CA 94105-3901.

Copies of the SIP materials are also available for inspection at the address listed below:

Nevada Division of Environmental Protection, 333 W. Nye Lane, Carson City, NV 89710.

FOR FURTHER INFORMATION CONTACT: Valerie Cooper, Grants and Program Integration Office (AIR-8), Air Division, U.S. EPA, Region 9, 75 Hawthorne Street, San Francisco, CA 94105-3901. Telephone: (415) 947-4103. E-mail: Cooper.Valerie@epa.gov

SUPPLEMENTARY INFORMATION: In the Rules and Regulations section of this Federal Register, we are approving the maintenance plan for the Steptoe Valley—Central SO2 nonattainment area. We are also approving the State of Nevada's request to redesignate the Steptoe Valley area from nonattainment to attainment for the primary SO2 NAAQS. We are taking these actions without prior proposal because we believe that the revision and request are not controversial. If we receive adverse comments, however, we will publish a timely withdrawal of the direct final rule and address the comments in subsequent action based on this proposed rule. We do not plan to open a second comment period, so anyone interested in commenting should do so at this time. If we do not receive adverse comments, no further activity is planned. For further information, please see the direct final action.

Dated: March 24, 2002.
Wayne Nastri,
Regional Administrator, Region IX.

[FR Doc. 02-8290 Filed 4-11-02; 8:45 am]

BILLING CODE 6560-50-P